DEPARTMENT OF TRANSPORTATION

National Highway Traffic Safety Administration

[NHTSA Docket No. NHTSA-2010-0155]

National Emergency Medical Services Advisory Council Meeting Notice

AGENCY: National Highway Traffic Safety Administration (NHTSA), Department of Transportation (DOT).

ACTION: National Emergency Medical Services Advisory Council (NEMSAC); Notice of Federal Advisory Committee Meeting.

SUMMARY: NHTSA announces a meeting of NEMSAC to be held in the Metropolitan Washington, DC area. This notice announces the date, time and location of the meeting, which will be open to the public. The purpose of NEMSAC is to provide a nationally recognized council of emergency medical services representatives and consumers to provide advice and recommendations regarding Emergency Medical Services (EMS) to the U.S. DOT's NHTSA.

DATES: The meeting will be held on December 14, 2010, from 8 a.m. to 5 p.m., and on December 15, 2010, from 8 a.m. to 11:30 a.m. A public comment period will take place on December 15, 2010, between 9 a.m. and 9:30 a.m.

Comment Date: Written comments or requests to make oral presentations should be received by December 9, 2010.

ADDRESSES: The meeting will be held at the Omni Shoreham Hotel, 2500 Calvert Street, NW. (at Connecticut Avenue), Washington, DC 20008. Persons wishing to make an oral presentation or who are unable to attend or speak at the meeting may submit written comments. Written comments and requests to make oral presentations at the meeting should reach Drew Dawson at the address listed below and should be received by December 9, 2010.

All submissions received may be submitted by either one of the following methods: (1) You may submit comments by e-mail: drew.dawson@dot.gov or noah.smith@dot.gov or (2) You may submit comments by fax: (202) 366-7149.

FOR FURTHER INFORMATION CONTACT: Drew Dawson, Director, Office of Emergency Medical Services, NHTSA, 1200 New Jersey Avenue, SE., NTI-140, Washington, DC 20590, telephone number (202) 366-9966; e-mail Drew.Dawson@dot.gov.

SUPPLEMENTARY INFORMATION: Notice of this meeting is given under the Federal Advisory Committee Act, Public Law 92-463, as amended (5 U.S.C. App. 1 et seq.). The NEMSAC will be holding its eighth meeting on Tuesday and Wednesday, December 14 and 15, 2010, at the Omni Shoreham Hotel, 2500 Calvert Street, NW., Washington, DC 20009.

Agenda of Council Meeting, December 14-15, 2010

The tentative agenda includes the following:

Tuesday, December 14, 2010

(1) Opening Remarks;

(2) Introduction of Members and all in attendance;

(3) Review and Approval of Minutes of last Meeting;

(4) Discussion on NEMSAC Method of Operations and Code of Conduct;

(5) Discussion of Priority EMS issues;

(6) Determination of Committee Structure and Membership.

Wednesday, December 15, 2010

(1) Introductions and Review of 14 December Discussion;

(2) NHTSA & Federal Interagency Committee on EMS (FICEMS) Update;

(3) Public Comment Period;

(4) Federal Partner Update;

(5) Brief from National Commission on Children and Disasters;

(6) 2011 Meeting Schedule;

(7) Brief Committee Organizational Meetings;

(8) Next Steps and Adjourn.

A public comment period will take place on December 15, 2010, between 9 a.m. and 9:30 a.m.

Public Attendance: The meeting is open to the public. Persons with disabilities who require special assistance should advise Drew Dawson of their anticipated special needs as early as possible. Members of the public who wish to make comments on Tuesday, December 15 between 9 a.m. and 9:30 a.m. are requested to register in advance. In order to allow as many people as possible to speak, speakers are requested to limit their remarks to 3 minutes. For those wishing to submit written comments, please follow the procedure noted above.

This meeting will be open to the public. Individuals wishing to register are encouraged to provide their name, affiliation, phone number, and e-mail address to Drew Dawson by e-mail at drew.dawson@dot.gov or by telephone at (202) 366-9966 no later than December 9, 2010. There will be limited seating, so please register early.

Minutes of the NEMSAC Meeting will be available to the public online through http://www.ems.gov.

Issued on: November 19, 2010.
Drew E. Dawson,
Director, Office of Emergency Medical Services.

[FR Doc. 2010-29644 Filed 11-23-10; 8:45 am]

BILLING CODE 4910-59-P